DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2008 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Rod Markham, Director, Human Resources, Justice Management Division, Department of Justice, Washington, DC 20530; (202) 514-4350.

Lee J. Lofthus,
Assistant Attorney General for Administration.

Name | Position title
Office of the Attorney General—AG
Benczkowski, Brian | Chief of Staff.
Office of the Deputy Attorney General—DAG
Margolis, David | Associate Deputy Attorney General.
Schools, Scott N | Associate Deputy Attorney General.
Eisenberg, John A | Associate Deputy Attorney General.
Soffer, Gil M | Associate Deputy Attorney General.
Office of the Associate Attorney General—OASG
Battaglia, John T | Deputy Associate Attorney General.
Cain, Candace Camille | Deputy Associate Attorney General.
Nichols, Carl J | Principal Deputy Associate Attorney General.
Witten, Jesse | Deputy Associate Attorney General.
Antitrust Division—ATR
Connolly, Robert E | Chief, Philadelphia Field Office.
Davis, Nezida S | Chief, Atlanta Field Office.
Familant, Norman | Chief, Economic Litigation Section.
Giordano, Ralph T | Chief, New York Field Office.
Goodman, Nancy M | Chief, Telecommunications and Media Section.
Hammond, Scott D | Deputy Assistant Attorney General/Criminal Enforcement.
Hand, Edward T | Chief, Foreign Commerce Section.
Heyer, Kenneth | Director of Economics.
King, Thomas D | Executive Officer.
Kramer II, J. Robert | Director of Operations.
Kursh, Gail | Deputy Chief, Legal Policy Section.
Majure, William Robert | Chief, Competition Policy Section.
O'Suluvan, Catherine G | Chief, Appellate Section.
Petrizzi, Maribeth | Chief, Litigation II Section.
Phelan, Lisa M | Chief, National Criminal Enforcement Section.
Potter, Robert A | Chief, Legal Policy Section.
Price Jr., Marvin N | Chief, Chicago Field Office.
Read, John R | Chief, Litigation III Section.
Tierney, James J | Chief, Networks and Technology Enforcement Section.
Warren, Phillip H | Chief San Francisco Field Office.
Watson, Scott M | Chief, Cleveland Field Office.
Garza, Deborah A | Deputy Assistant Attorney General (Regulatory).
Meyerj David L | Deputy Assistant Attorney General.
O'Connell Jr., James J | Deputy Assistant Attorney General.
Bureau of Alcohol, Tobacco, Firearms, and Explosives—ATF
Anderson, Glenn N | Special Agent in Charge, Boston.
Bailey, Gregg D | Assistant Director, Science and Technology.
Barrera, Hugo J | Deputy Assistant Director, Office of Strategic Intelligence and Information.
Bell, William L | Deputy Assistant Director, Science and Technology.
Boxler, Michael B | Special Agent in Charge, Kansas/City.
Brandon, Thomas E | Special Agent in Charge, Detroit.
Carroll, Carson W | Deputy Assistant Director, Field Operations-West.
Carter, Ronnie A | Special Agent in Charge, Dallas.
Cavanaugh, James M | Special Agent in Charge, Nashville.
Chait, Mark R | Deputy Assistant Director, Field Operations-Central.
Chase, Richard E | Assistant Director, Office of Professional Responsibility and Security Operations.
Colucci, Nicholas V | Deputy Assistant Director, Office of Public and Governmental Affairs.
Crenshaw, Kelvin N | Special Agent in Charge, Seattle.
Domenech, Edgar A | Special Agent in Charge, Washington DC.
Ethridge, Michael W | Director, Laboratory Services.
Ficaretta, Teresa G | Deputy Chief Counsel.
Ford, Wilfred L | Assistant Director, Office of Public and Governmental Affairs.
Gant, Gregory K | Special Agent in Charge, Baltimore.
Goddard, Valerie J | Deputy Assistant Director, Field Operations-East.
Graham, Zebedee T | Special Agent in Charge, Charlotte.
Harper, David G | Special Agent in Charge, New Orleans.
Hoover, William J | Assistant Director, Field Operations.
Logan, Mark | Assistant Director, Training and Professional Development.
Loos, Eleaner R | Associate Chief Counsel, Administration and Ethics.
Martin, Stephen K | Special Agent in Charge, San Francisco.
Massey, Kenneth | Deputy Assistant Director, Office of Professional Responsibility and Security Operations.
McDermond, James E | Assistant Director, Office of Strategic Intelligence and Information.
McLemore, Vanessa L | Special Agent in Charge, Atlanta.
McMahon Jr., William G | Special Agent in Charge, New York.
Michalic, Vivian B | Deputy Assistant Director, Management.
Newell, William D | Special Agent in Charge, Phoenix.
O'Brien, Virginia T | Special Agent in Charge, Tampa.
Potter, Mark W | Special Agent in Charge, Philadelphia.
Rubenstein, Stephen R | Chief Counsel.
Sadowski, Christopher P | Special Agent in Charge, Columbus.
Stinnett, Melanie S | Assistant Director, Management and Chief Financial Officer.
Stoop, Theresa R | Deputy Assistant Director, Training and Professional Development.
Stucko, Audrey M | Deputy Assistant Director, Enforcement Program and Services.
Torres, John A | Special Agent in Charge, Los Angeles.
Torres, Julie | Special Agent in Charge, Miami.
Traver, Andrew L | Special Agent in Charge, Chicago.
Vido, Paul J | Special Agent in Charge, Louisville.
Webb, James P | Special Agent in Charge, Houston.
Zammillo Sr., James A | Deputy Assistant Director, Industry Operations.
Zapor, Bernard J | Special Agent in Charge, St Paul.
Bureau of Prisons—BOP
Adams, Vanessa P | Senior Deputy Assistant Director Program Review Division.
Anderson, Marty C | Warden, USMCFP Springfield, MO.
Apker Jr., Lionel C | Warden, FCI, Phoenix, AZ.
Beeler Jr., Arthur F | Warden, FCC Butner, NC.
Benov, Michael L | Warden, MDC, Los Angeles, CA.
Beusse, Robin Litman | Senior Deputy Assistant Director for Administration.
Bledsoe, Bryan A | Warden, USP Lewisburg, PA.
Castillo, Juan D | Warden, FCI Memphis TN.
Chapman, W. Elanie | Warden, FMC, Carswell, TX.
Chavez, Ricardo F | Warden, USP Tuscon, AZ.
Chester, Claude | Warden, USP Leavenworth, KS.
Conley, Joyce K | Assistant Director Correctional Programs Division.
Craig, Todd R | Warden, FCI Beckley, WV.
Cross Jr., James | Warden, MCC, New York, NY.
Dalius Jr., William F. | Assistant Director for Administration.
Deboo, Kuma J | Warden, FCI Gilmer, WV.
Dewalt, Stephen M | Warden, FMC Lexington, KY.
Dodrill, D. Scott | Regional Director, Northeast Region.
Drew, Darlene | Warden, FCI Bennettsville, SC.
Drew, Darrel | Warden, FCC, Coleman, FL.
Driver, Joe D | Warden, USP Hazelton, WV.
Fox, John B | Warden, FCC, Beaumont, Texas.
Grayer, Loren A | Warden, USP, Atlanta, GA.
Grondolsky, Jeff F | Warden, FCI, Fort Dix, NJ.
Hastings, Suzanne R | Senior Deputy Assistant Director, Correctional Programs Division.
Hayes, Anthony Rico | Warden, MDC Guaynabo, Puerto Rico.
Hickey, Deborah A | Warden, FCI Jesup, GA.
Hogsten, Karen F | Warden, FCI Manchester, KY.
Holinka-Wurdeman, Carol J | Warden, FCI Oxford, WI.
Holungsworth, Lisa W | Warden, USP, Marion, IL.
Holt, Raymond E | Regional Director, Southeast Region.
Holt, Ronnier | Warden, USP, Canaan, PA.
Johns, Tracy W | Warden, FCI Medium-I, Butner, NC.
Joslin, Daniel M | Warden, FCI, Three Rivers, TX.
Kane, Thomas R | Assistant Director, Information, Policy, and Public Affairs Division.
Kastner, Paul A | Warden, FTC, Oklahoma City, OK.
Keffer, Joseph E | Warden, USP Polluck, LA.
Kendall, Paul F | Senior Counsel.
Kenney, Kathleen M | Assistant Director, Office of General Counsel.
Killian, Janice M | Warden, FCI Otisville, NY.
Laird, Paul A | Assistant Director, Industries, Education and Vocational Training Division.
Lamanna, John J | Warden, FCI, Edgefield, SC.
Lappin, Harley G | Director.
Le Blanc Jr., Whitney I | Assistant Director for Human Resources Management.
Ledezma, Hector A | Warden FCI El Reno, OK.
Lindsay, Cameron K | Warden, MDC, Brooklyn, NY.
Maldonado Jr., Gerardo | Regional Director, South Central Region.
Marberry, Helen J | Warden, FCC Terre Haute, IN.
Martinez, Ricardo | Warden, FCC Allenwood, PA.
McFadden, Robert E | Regional Director, Western Region.
Middlebrooks, Scott A | Warden, USP Coleman-I, Coleman, FL.
Nalley, Michael K | Regional Director, North Central Region.
Norwood, Joseph L | Warden, FCC, Victorville, CA.
O'Brien, Terence T | Warden, USP Lee, VA.
Outlaw, Timothy C | Warden, FCC, Forrest City, AR.
Owen, John R | Warden FCI, Williamsburg, SC.
Pearson, Bruce A | Warden, FCC Yazoo City, MS.
Quintana, Francisco J | Warden, FCI Mckean, PA.
Rathman, John T | Warden, FDC, Miami, FL.
Reese, Constance N | Warden, FCI, Talladega, AL.
Revell, Sara M | Warden, USP High, Florence, CO.
Rios Jr., Hector A | Warden, USP, Big Sandy, KY.
Rivera, Mildred | Warden, FCI Estill, SC.
Sabol, Carolyn Ann | Warden, FMC, Devens, MA.
Samuels, Charles E. Jr | Senior Deputy Assistant Director of Correctional Programs Division.
Sanders, Linda L | Warden, FCC Lompoc, CA.
Schult, Deborah G | Warden, FCI, Ray Brook, NY.
Schultz, Paul M | Warden, FCI Fairton, NJ.
Sherrod, William A | Warden, FCI Greenville, IL.
Smith, Dennis, R | Warden, USP Atwater, CA.
Sniezek, Thomas R | Warden, FCI Schuylkill, PA.
Stansberry, Patricia R | Warden, FCC Petersburg, VA.
Stine, Donald L | Warden, USP, McCreary, KY.
Terrell, Dudley J | Warden, FMC, Rochester, MN.
White, Kim M | Regional Director, Middle Atlantic Region.
Whitehead, Jimmy D | Warden, FCI Cumberland, MD.
Wiley, Ronnie | Warden, FCC, Florence, CO.
Young Jr., Joseph P | Warden, FCC, Oakdale, LA.
Zuercher, Jerome C | Warden, FCI Pekin, IL.
Thigpen Sr, Morris L | Director National Institute of Corrections.
Civil Division—CIV
Baxter, Felix V | Branch Director (Federal Program).
Branda, Joyce R | Branch Director (Commercial).
Bruen Jr., James G | Special Litigation Counsel.
Coppolino, Anthony J | Special Litigation Counsel (Federal Programs).
Davidson, Jeanne E | Branch Director (National Courts)—Commercial Litigation Branch.
Fargo, John J | Branch Director (Commercial).
Frost, Peter F | Branch Director (Torts).
Garren, Timothy Patrick | Branch Director (Torts).
Garvey, Vincent Morgan | Deputy Branch Director (Federal Programs).
Glynn, John Patrick | Branch Director (Torts).
Granston, Michael D | Deputy Branch Director Civil Frauds.
Hertz, Michael F | Deputy Assistant Attorney General, Commercial Litigation Branch.
Hollis, Robert Mark | Office Director (Special Litigation Counsel).
Hunt, Joseph H | Branch Director (Federal Programs).
Hussey, Thomas W | Director, Oil Appellate Litigation.
Kanter, William G | Deputy Director (Appellate Staff).
Kirschman Jr., Robert E | Deputy Branch Director (Commercial).
Kline, David J | Branch Director Oil Federal District Court Litigation.
Kohn, J. Christopher | Branch Director (Commercial).
Kopp, Robert E | Director, Appellate Staff.
Letter, Douglas N | Appellate Litigation Counsel.
Lieber, Sheila M | Deputy Branch Director.
McConnell, David M | Deputy Director (Operations), Office of Immigration Litigation.
O'Malley, Barbara B | Special Litigation Counsel.
Pyles, Phyllis J | Branch Director (Torts).
Rivera, Jennifer D | Branch Director (Federal Programs).
Snee, Bryant G | Deputy Branch Director (Commercial).
Stern, Mark B | Appellate Litigation Counsel.
Thirolf, Eugene M | Director, Office of Consumer Litigation.
Zwick, Kenneth L | Director of Management Programs.
Beckner, C. Frederick | Deputy Assistant Attorney General.
Bucholtz, Jeffrey S | Principal Deputy Assistant Attorney General.
Cohn, Jonathan F | Deputy Assistant Attorney General (Appellate Staff).
Dupree Jr., Thomas | Deputy Assistant Attorney General (Immigration Litigation).
O'Quinn, John | Deputy Assistant Attorney General (Federal Programs).
Civil Rights Division—CRT
Baldwin, Katherine A | Deputy Special Counsel for Immigration-Related Unfair Employment Practices.
Brown-Cutlar, Shanetta Y | Chief, Special Litigation Section.
Coates, Harry Christopher | Chief, Voting Section.
Flynn, Diana Katherine | Chief, Appellate Section.
Friedlander, Merrily A | Chief, Coordination & Review Section.
Ginsburg, Jessica A | Counsel to the Assistant Attorney General.
Glassman, Jeremiah | Chief, Educational Opportunities Section.
Greene, Irva D | Executive Officer.
Kappelhoff, Mark John | Chief, Criminal Section.
King, Loretta | Deputy Assistant Attorney General.
Rosenbaum, Steven H | Chief, Housing and Civil Enforcement Section.
Tanner, John K | Counselor to the Voting Section Chief.
Wodatch, John L | Chief, Disability Rights Section.
Becker, Grace Chung | Deputy Assistant Attorney General.
Krigsten, Lisa | Principal Deputy Assistant Attorney General.
Liu, Jessie K | Deputy Assistant Attorney General.
Criminal Division—CRM
Ainsworth, Peter J | Senior Deputy Chief, Public Integrity Section.
Alexandre, Carl | Director, OPDAT.
Blanco, Kenneth A | Deputy Assistant Attorney General.
Glazer, Sidney | Senior Appellate Counsel.
Keeney, John C | Deputy Assistant Attorney General.
Killion, Maureen H | Director, Office of Enforcement Operations.
McHenry, Teresa L | Chief, Domestic Security Section.
Morris, Brenda K | Principal Deputy Chief, Public Integrity Section.
Nash, Stuart G | Director, Organized Crime, Drug Enforcement Task Force.
Ohr, Bruce G | Chief, Organized Crime and Racketeering Section.
Oosterbaan, Andrew | Chief, Child Exploitation and Obscenity Section.
Padden, Thomas William | Principal Deputy, Chief for Operations, Narcotic and Dangerous Drug Section.
Painter, Christopher M | Deputy Chief, Computer Crime and Intellectual Property Section.
Parent, Steven J | Executive Officer.
Pelletier, Paul E | Deputy Chief for Litigation.
Reynolds, James S | Senior Counsel to the Assistant Attorney General.
Robinson, Stewart C | Principal Deputy Director, Office of International Affairs.
Rogers, Richard M | Senior Counsel to the Assistant Attorney General.
Rosenbaum, Eli M | Director, Office of Special Investigations.
Sabin, Barry M | Deputy Assistant Attorney General.
Stemler, Patty Merkamp | Chief, Appellate Section.
Swartz, Bruce Carlton | Deputy Assistant Attorney General.
Trevillian IV, Robert C | Director, International Criminal Investigative Training Assistance Program.
Tyrrell, Steven A | Chief, Fraud Section.
Warlow, Mary Ellen | Director, Office of International Affairs.
Weber, Richard M | Chief, Asset Forfeiture and Money Laundering Section.
Welch II, Wiluam M | Chief, Public Integrity Section.
Wroblewski, Jonathan J | Director Office of Policy and Legislation.
Friedrich, Matthew W | Senior Counsel.
Mandelker, Sigal P | Deputy Assistant Attorney General.
McNally, Edward E | Senior Counsel.
Environmental and Natural Resources Division—ENRD
Alexander, S. Craig | Chief, Indian Resources Section.
Bruffy, Robert L | Executive Officer.
Butler, Virginia P | Chief, Land Acquisition Section.
Clark II, Tom C | Principal Deputy Chief Resources Section.
Cruden, John C | Deputy Assistant Attorney General.
Disheroon, Fred R | Senior Litigation Counsel Attorney Examiner.
Fisherow, W. Benjamin | Deputy Chief Environment Enforcement.
Gelber, Bruce S | Chief, Environmental Enforcement.
Grishaw, Letitia J | Chief, Environmental Defense Section.
Haugrud, K. Jack | Chief, General Litigation Section.
Kilbourne, James C | Chief, Appellate Section.
Mahan, Ellen M | Deputy Chief, Environmental Enforcement Section.
Milius, Pauline H | Chief, Policy, Legislation and Special Litigation Section.
Mitchell, Stacey H | Chief, Environmental Crimes Section.
Randall, Gary B | Deputy Section Chief, Natural Resources Section.
Sobeck, Eileen | Deputy Assistant Attorney General.
Stewart, Howard P | Senior Litigation Counsel.
Vaden, Christopher S | Deputy Section Chief, Environmental Defense Section.
Williams, Jean E | Chief, Wildlife and Marine Resources.
Guzman, Michael | Principal Deputy Assistant Attorney General.
Nelson, Ryan D | Deputy Assistant Attorney General.
Executive Office for Immigration Review—EOIR
Creppy, Michael J | Chief Administrative Hearing Officer.
Nasca, Paula N | Associate Director.
Neal, David | Chief Immigration Judge.
Ohlson, Kevin A | Director.
Executive Office for U.S. Attorneys—EOUSA
Bailie, Michael W | Director, Office of Legal Education.
Bevels, Lisa A | Deputy Director Financial Management.
Downs, David W | Chief Operations Officer.
Macklin, James | General Counsel.
Melson, Kenneth E | Director.
Nowacki, John A | Principal Deputy Director.
Executive Office for U.S. Trustees—EOUST
Miller, Jeffrey M | Associate Director.
Redmiles, Mark A | Principal Deputy Director.
White III, Clifford J | Director.
Justice Management Division—JMD
Allen, Michael H | Deputy Assistant Attorney General for Policy, Management, and Planning and Chief of Staff.
Alvarez, Christopher C | Deputy Director (Auditing), Finance Staff.
Atsatt, Marilynn B | Deputy Director, Budget Staff.
Beasley, Roger | Director, Operation Services Staff.
Deacon, Ronald L | Director, Facility Administration Services Staff.
Defalaise, Louis | Director, Office of Attorney Recruitment and Management.
Dessy, Blane K | Director, Library Staff.
Dunlap, James L | Director, Security and Emergency Planning Staff.
Frisch, Stuart | General Counsel.
Frost-Tucker, Vontell D | Director, Equal Employment Opportunity Staff.
Haggerty, Kathleen A | Director, Debt Collection Management Staff.
Hitch, Vance E | Deputy Assistant Attorney General/Chief Information Officer.
Holtgrewe, Kent L | Director, IT Policy and Planning Staff.
Johnston, James W | Director, Procurement Services Staff.
Lauria-Sullens, Jolene A | Deputy Assistant Attorney General/Controller.
Markham, Rod E | Director, Human Resources.
Morgan, Melinda B | Director, Finance Staff.
Murray, John W | Director, Enterprise Solutions Staff.
Olds, Candace A | Director, Asset Forfeiture Management Staff.
O'Leary, Karin | Director, Budget Staff.
Olson, Eric R | Deputy, Chief information Officer for E-Government Services Staff.
Orr, David Marshall | Director, Management and Planning Staff.
Santangelo, Mari Barr | Deputy Assistant Attorney General for Human Resources and Administration (CHCO).
Schultz Jr., Walter H | Deputy Director, Budget Staff, Operations and Funds Control.
National Drug Intelligence Center—NDIC
Hernandez, Irene S | Deputy Director.
Walther, Michael F | Director, National Drug Intelligence Center.
National Security Division—NSD
Bradley, Mark A | Special Counsel for Oversight Section.
Dion, John J | Chief, Counterespionage Section.
Kennedy, J. Lionel | Special Counsel for National Security Law and Policy.
Mullaney, Michael J | Chief, Counterterrorism Section.
Olsen, Matthew G | Deputy Assistant Attorney General FISA Operations and Intelligence Oversight.
Walter, Sheryl L | Executive Officer.
Demers, John C | Deputy Assistant Attorney General, Law and Policy.
Rowan, J. Patrick | Deputy Assistant Attorney General, Counterterrorism/Counter Espionage.
Office of Community Oriented Policing Services—COPS
Peed, Carl R | Director.
Office of Information and Privacy—PIP
Pustay, Melanie Ann | Director (Policy & Lit).
Office of the Inspector General—OIG
Fortine Ochoa, Carol A | Assistant Inspector General for Oversight & Review.
Martin, Paul K | Deputy Inspector General.
McLaughun, Thomas F | Assistant Inspector General for Investigation.
Peters, Gregory T | Assistant Inspector General for Management & Planning.
Price, Paul A | Assistant Inspector General Evaluation and Inspection.
Robinson, Gail A | General Counsel.
Office of Intergovernmental and Public Liaison—OIPL
Korn, Jennifer S | Director.
Office of Justice Programs—OJP
Ayers, Nancy Lynn | Deputy Administrator for Policy, OJJDP.
Benda, Bonnie Leigh | Deputy, Chief Financial Officer.
Burch II, James H | Deputy Director, Policy and Management, Bureau of Justice Programs.
Feucht, Thomas E | Assistant Director, National Institute of Justice, Office for Research and Evaluation.
Garry, Eileen M | Deputy Director for Programs, Bureau of Justice Assistance.
Greenfeld, Lawrence A | Executive Science Advisor, National Institute of Justice.
Greenhouse, Dennis E | Director, Community Capacity Development Office.
Iwanow, Walter | Chief Information Officer.
Madan, Rafael A | General Counsel.
McGarry, Beth | Deputy Assistant Attorney General, Operations Management.
Merkle, Phillip | Director, Office of Administration.
Morgan, John S | Assistant Director, National Institute of Justice, Office of Science and Technology.
Paull, Marcia K | Chief Financial Officer.
Roberts, Marilyn M | Deputy Administrator, OJJDP.
Harris, Gregory Paul | Deputy Administrator, OJJDP.
Holland, Eric | Deputy Assistant Attorney General.
McFarland, Steven T | Director, Office of Faith Based and Community Initiatives.
Rogers, Laura | Smart Coordinator.
Office of Legal Counsel—OLC
Colborn, Paul P | Special Counsel.
Hart, Rosemary A | Special Counsel.
Koffsky, Daniel L | Deputy Assistant Attorney General.
Bradbury, Steven G | Principal Deputy Assistant Attorney General.
Elwood, John Patrick | Deputy Assistant Attorney General.
Engel, Steven A | Deputy Assistant Attorney General.
Papez, Elizabeth | Deputy Assistant Attorney General.
Office of Legal Policy—OLP
Jones, Kevin Robert | Deputy Assistant Attorney General.
Thiemann, Robyn L | Deputy Assistant Attorney General.
Office of Legislative Affairs—OLA
Burton, M. Faith | Special Counsel.
Nelson, Keith B | Principal Deputy Assistant Attorney General.
Seidel, Rebecca S | Deputy Assistant Attorney General.
Tracci, Robert N | Deputy Assistant Attorney General.
Office of Professional Responsibility—OPR
Jarrett, Howard Marshall | Counsel on Professional Responsibility.
Wish, Judith B | Deputy Counsel on Professional Responsibility.
Office of Public Affairs—PAO
Roehrkasse, Brian J | Director.
Office of the Federal Detention Trustee—OFDT
Hylton, Stacia A | Federal Detention Trustee.
Office of the Pardon Attorney—OPA
Rodgers, Ronald L | Pardon Attorney.
Office of the Solicitor General—OSG
Dreeben, Michael R | Deputy Solicitor General.
Kneedler, Edwin S | Deputy Solicitor General.
Garre, Gregory G | Principal Deputy Solicitor General.
Professional Responsibility Advisory Office—PRAO
Dunston, Jerri U | Director, Professional Responsibility Advisory Office.
Tax Division—Tax
Cimino, Ronald Allen | Regional Chief, Western Region.
Dicicco, John | Deputy Assistant Attorney General, First Assistant to the Assistant Attorney General.
Donohue, Dennis M | Senior Litigation Counsel.
Heald, Seth G | Chief, Civil Trial Section, Central Region.
Hechtkopf, Alan | Chief, Criminal Appeals and Tax Enforcement Policy Section.
Hubbert, David A | Chief, Civil Trial Section, Eastern Region.
Hytken, Louise P | Chief, Civil Trial Section, Southwestern Region.
Kearns, Michael J | Chief, Civil Trial Section, Southern Region.
Meland, Deborah | Chief, Office of Review.
Mullarkey, Daniel P | Chief, Civil Trial Section, Northern Region.
Paguni, Rosemary E | Chief, Criminal Enforcement Section, Northern Region.
Rothenberg, Gilbert S | Chief, Appellate Section.
Salad, Bruce M | Chief, Criminal Enforcement Section, Southern Region.
Shatz, Eileen M | Special Litigation Counsel.
Ward, Richard | Chief, Civil Trial Section Western Region.
Young, Joseph E | Executive Officer.
Morrison, Richard T | Deputy Assistant Attorney General.
U.S. Marshals Service—USMS
Auerbach, Gerald | General Counsel.
Dolan, Edward | Assistant Director, Financial Services.
Dudley, Christopher C | Associate Director, Administration.
Farmer, Marc A | Assistant Director, Operations Support.
Finan, Robert J. II | Associate Director, Operations.
Jones, Sylvester E | Assistant Director, Witness Security and Prisoner Operations.
Pearson, Michael A | Assistant Director, Business Services.
Rolstad, Scott C | Assistant Director for Justice Prisoner and Alien Transportation System (JPATS).
Beckwith, Brian R | Deputy Director.

[FR Doc. E8-19600 Filed 8-25-08; 8:45 am]

BILLING CODE 4410-AR-M